DEPARTMENT OF HEALTH AND HUMAN SERVICES

[Document Identifier: OS-0990-New; 30-day notice]

Agency Information Collection Request. 30-Day Public Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-5683. Send written comments and recommendations for the proposed information collections within 30 days of this notice directly to the OS OMB Desk Officer; faxed to OMB at 202-395-5806.

Proposed Project: Outcome Evaluation of Teenage Pregnancy Prevention: Integrating Services, Programs, and Strategies through Community-wide Initiatives—OMB No. 0990-NEW- Office of Adolescent Pregnancy Programs.

The Office of Adolescent Health and the Centers for Disease Control and Prevention (CDC) are working collaboratively to address the high pregnancy rate of women between the ages of 15-19 by demonstrating the effectiveness of innovative, multi-component, community-wide initiatives in preventing teen pregnancy and reducing rates of teen births in communities with the highest rates, with a focus on reaching African American and Latino youth aged 15-19. Components of these efforts include (1) Implementing evidence-based or evidence-informed prevention programs; (2) linking teens to quality health services; (3) educating stakeholders (community leaders, parents and other constituents) about relevant evidence-based or evidence-informed strategies to reduce teen pregnancy and data on needs and resources in target communities; and (4) supporting the sustainability of the community-wide teen pregnancy prevention effort.

The main objective for the proposed Outcome Evaluation of Teenage Pregnancy Prevention: Integrating Services, Programs, and Strategies through Community-wide Initiatives is to measure risk behaviors, pregnancies, and use of contraceptives and family planning services among youth. The data collection instrument for the proposed study is a modified version of a recently approved survey (OMB No. 0970-0360 Expiration date 7/31/2013). Clearance is being requested to expand the utilization of a modified version of the previously-approved instrument.

The Outcome Evaluation of Teenage Pregnancy Prevention: Integrating Services, Programs, and Strategies through Community-wide Initiatives will focus on the combined change of two proportions: (1) The proportion of youth who have not engaged in sexual intercourse during the past 12 months and (2) the proportion of youth who have engaged in sexual intercourse but have used contraception consistently during the past 12 months. To determine if the change in this proportion of interest in the intervention community is significantly different from the control community is one of the most important parameters to be estimated. Power analysis determined that 1,200 surveys per community will be sufficient to detect this difference. The precise number of youth surveyed will depend on the response rates, and will be between 1,200 and 1,500 per community.

Table—Estimated Annualized Burden
Instrument | Type of respondent | Number of respondents | Number of responses per respondent | Average burden hours per response | Total annual burden hours
Evaluation of Adolescent Pregnancy Prevention Approaches Household Survey | Youth aged 15-19 | 9,000 | 1 | 45/60 | 6,750

Mary Forbes,
Office of the Secretary, Paperwork Reduction Act Clearance Officer.

[FR Doc. 2011-22166 Filed 8-29-11; 8:45 am]

BILLING CODE 4150-32-P